GENERAL SERVICES ADMINISTRATION

Regulation and Program Development Division; Cancellation of a Standard Form

AGENCY: Federal Supply Service, General Services Administration.

ACTION: Notice.

SUMMARY: This notice announces the cancellation of the following Standard form:

SF 1203, U.S. Government Billing of Lading-Privately Owned Personnel Property (7-part continuous fee version) (identified by NSN 7540-01-096-8489). New regulations require Federal agencies to use the Transportation Service Provider's bill of lading or pay with a government purchase card (See 41 CFR 102-118).

FOR FURTHER INFORMATION CONTACT: General Services Administration, Forms Management, (202) 501-0581.

DATES: Effective May 17, 2002.

Dated: April 30, 2002.
Barbara M. Williams,
Deputy Standard and Optional Forms Management Officer, General Services Administration.

[FR Doc. 02-12339 Filed 5-16-02; 8:45 am]

BILLING CODE 6820-34-M